FEDERAL COMMUNICATIONS COMMISSION

[CC Docket No. 92-237; DA 13-1300]

Next Meeting of the North American Numbering Council

AGENCY: Federal Communications Commission.

ACTION: Notice.

SUMMARY: In this document, the Commission released a public notice announcing the meeting and agenda of the North American Numbering Council (NANC). The intended effect of this action is to make the public aware of the NANC's next meeting and agenda.

DATES: Thursday, June 20, 2013, 10:00 a.m.

ADDRESSES: Requests to make an oral statement or provide written comments to the NANC should be sent to Carmell Weathers, Competition Policy Division, Wireline Competition Bureau, Federal Communications Commission, Portals II, 445 12th Street SW., Room 5-C162, Washington, DC 20554.

FOR FURTHER INFORMATION CONTACT: Carmell Weathers at (202) 418-2325 or Carmell.Weathers@fcc.gov. The fax number is: (202) 418-1413. The TTY number is: (202) 418-0484.

SUPPLEMENTARY INFORMATION: This is a summary of the Commission's document in CC Docket No. 92-237, DA 13-1300 released May 31, 2013. The complete text in this document is available for public inspection and copying during normal business hours in the FCC Reference Information Center, Portals II, 445 12th Street SW., Room CY-A257, Washington, DC 20554. The document my also be purchased from the Commission's duplicating contractor, Best Copy and Printing, Inc., 445 12th Street SW., Room CY-B402, Washington, DC 20554, telephone (800) 378-3160 or (202) 863-2893, facsimile (202) 863-2898, or via the Internet at http://www.bcpiweb.com. It is available on the Commission's Web site at http://www.fcc.gov.

The North American Numbering Council (NANC) has scheduled a meeting to be held Thursday, June 20, 2013, from 10:00 a.m. until 2:00 p.m. The meeting will be held at the Federal Communications Commission, Portals II, 445 12th Street SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

People with Disabilities: To request materials in accessible formats for people with disabilities (braille, large print, electronic files, audio format), send an email to fcc504@fcc.gov or call the Consumer and Governmental Affairs Bureau at 202-418-0530 (voice), 202-418-0432 (tty). Reasonable accommodations for people with disabilities are available upon request. Include a description of the accommodation you will need, including as much detail as you can. Also include a way we can contact you if we need more information. Please allow at least five days advance notice; last minute requests will be accepted, but may be impossible to fill.

Proposed Agenda: Thursday, June 20, 2013, 10:00 a.m.*

1. Announcements and Recent News

2. Approval of Transcript—Meeting of February 21, 2013

3. Report of the North American Numbering Plan Administrator (NANPA)

4. Report of the National Thousands Block Pooling Administrator (PA)

5. Report of the Numbering Oversight Working Group (NOWG)

6. Report of the North American Numbering Plan Billing and Collection (NANP B&C) Agent

7. Report of the Billing and Collection Working Group (B&C WG)

8. Report of the North American Portability Management LLC (NAPM LLC)

9. Report of the LNPA Selection Working Group (SWG)

10. Report of the Local Number Portability Administration (LNPA) Working Group

11. Status of the Industry Numbering Committee (INC) activities

12. Report of the Future of Numbering Working Group (FoN WG)

13. Summary of Action Items

14. Public Comments and Participation (5 minutes per speaker)

15. Other Business

Adjourn no later than 2:00 p.m.

*The Agenda may be modified at the discretion of the NANC Chairman with the approval of the DFO.

Federal Communications Commission.
Marilyn Jones,
Attorney, Wireline Competition Bureau.

[FR Doc. 2013-13677 Filed 6-7-13; 8:45 am]

BILLING CODE 6712-01-P